DEPARTMENT OF DEFENSE

Department of the Navy

Privacy Act of 1974; System of Records

AGENCY: Department of the Navy

ACTION: Notice to add systems of records.

SUMMARY: The Department of the Navy proposes to add two systems of records notices to its inventory of record systems subject to the Privacy Act of 1974 (5 U.S.C. 552a), as amended.

DATES: This action will be effective on June 24, 2004, unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system reports, as required by 5 U.S.C. 552a(r) of the Privacy Act, were submitted on May 17, 2004, to the House Committee on Government Reform, the Senate Committee on Governmental Affairs, and the Office of Management and Budget (OMB) pursuant to paragraph 4c of Appendix I to OMB Circular No. A-130, Federal Agency Responsibilities for Maintaining Records About Individuals, dated February 8, 1996, (61 FR 6427, February 20, 1996).

Dated: May 18, 2004.
L.M. Bynum,
Alternate OSD Federal Register Liaison Officer, Department of Defense.

NM03760-3

System name:

NATOPS Flight Personnel Training/Qualification Jacket.

System location:

The NATOPS Flight Personnel Training and Qualification Jacket accompanies the individual aircrew member throughout his career in the Navy or U.S. Marine Corps. Upon completion of service, the jacket will be given to the individual. For a deceased, missing, or captured air crewman, the jacket will be treated as personal effects.

Categories of individuals covered by the system:

All aeronautically designated commissioned Navy and U.S. Marine Corps officers and enlisted members assigned as aircrew members in the operation of an aircraft.

Categories of records in the system:

OPNAV Forms 3710/2, 3710/7, 3760/32-32I, and NAVMED 6410/1 or 6410/2; containing name and Social Security Number of aircrew member; general flight-related information, including jacket review and certification record; a copy of the most recent PCS orders; recent aero-medical clearance or grounding notice; and the flight equipment issue record. Flight qualifications and achievements information, including a flight personnel designation record and a mission qualification record. Flight training information, including schools and courses attendance records, operational physiology and survival training record, NATOPS examinations record, NATOPS evaluation reports, and instrument rating reports. Flight records, including copies of Monthly Individual flight Activity Reports and aircrft mishap/violation record.

Authority for maintenance of the system:

10 U.S.C. 5013, Secretary of the Navy; 10 U.S.C. 5041, Headquarters, Marine Corps; OPNAVINST 3710.7, NATOPS General Flight and Operating Instructions; and E.O. 9397 (SSN).

Purpose(s):

To provide a consolidated record of the training status and readiness of an air crewman and serve as a repository for certain aviation records accumulated during active aviation tours, and to prove commanding officers with pertinent data to assist in assignment, utilization, and training of an air crewman.

Routine uses of records maintained in the system, including categories of users and the purposes of such uses:

In addition to those disclosures generally permitted under 5 U.S.C. 552(b) of the Privacy Act, these records or information contained therein may specifically be disclosed outside the DoD as a routine use pursuant to 5 U.S.C. 552(b)(3) as follows:

The DoD ‘Blanket Routine Uses’ that appear at the beginning of the Navy's compilation of systems and records notices apply to the system.

Policies and practices for storing, retrieving, accessing, retaining, and disposing of records in the system:

Storage:

Paper and automated records.

Retrievability:

Name and Social Security Number.

Safeguards:

Physical access in restricted to the individual and those who maintain training records, or those who are directly involved with individual's training or evaluation. The aviation unit's file cabinets containing the jackets are in command areas under normal military 24-hour security measures. May also be resident in a password controlled system with file and element access based on predefined need-to-know. Physical access to terminals, terminal rooms, buildings and activities' grounds are controlled by locked terminals and room, guards, personnel screening and visitor registers.

Retention and disposal:

Upon detachment from a squadron/command or from active duty service, the jacket will be reviewed, certified by the commanding officer or designated representative, and given to the individual. For a deceased, missing, or captured air crewman, the jacket will be treated as personal effects.

System manager and address:

Commander Naval Air Force, U.S. Pacific Fleet, Code N32, NAS North Island, P.O. Box 357051, San Diego, CA 92135-7051.

Notification Procedure:

Individuals seeking to determine whether information about themselves is contained in this system should address written inquiries to Commander Naval Air Force, U.S. Pacific Fleet, Code N32, NAS North Island, P.O. Box 357051, San Diego, CA 92135-7051.

The request should contain the full name and Social Security Number of the individual, the squadron assigned and dates assigned, and be signed by the requester.

Record access procedure:

Individuals seeking access to information about themselves contained in this system should address written inquiries to the Commander Naval Air Force, U.S. Pacific Fleet, Code N32, NAS North Island, P.O. Box 357051, San Diego, CA 92135-7051.

The request should contain the full name and Social Security Number of the individual, the squadron assigned and dates assigned, and be signed by the requester.

Contesting record procedures:

The Navy's rules for accessing records, and for contesting contents and appealing initial agency determinations are published in the Secretary of the Navy Instruction 5211.5; 32 CFR part 701; or may be obtained from the system manager.

Record source categories:

Individual aeronautically designated Navy and Marine Corps officer or enlisted aircrew member; aviation unit personnel; academic tests support flight training, flight performance evaluations, check flight evaluations, aviation physiology training and Individual Flight Activity Reporting System data extracts.

Exemptions claimed for the system:

None.

NM03760-4

System name:

Aviator's Flight Log Book System.

System location:

Aviation unit to which the individual aircrew member is assigned. When not assigned to an aviation unit, the individual maintains custody of the log book.

Categories of individuals covered by the system:

All aeronautically designated commissioned Navy and U.S. Marine Corps officers and enlisted members assigned as aircrew members in the operation of an aircraft. Possession and maintenance of the log book is mandatory for all Naval Aviators, Student Naval Aviators, Naval Flight Officer, and Student Naval Flight Officers. Possession and maintenance of the log book is optional for other personnel on duty involving flying.

Categories of records in the system:

OPNAV Form 3760/31 (Aviators Flight Log Book), containing name and Social Security Number of aircrew member, contains sections for the aviator's qualifications and achievements, personal changes, summary of total flight record, flight record summary, summary of pilot time, record of individual flights, flight clothing record, accident and flight rule violation record, and mishap record.

Authority for maintenance of the system:

10 U.S.C. 5013, Secretary of the Navy; 10 U.S.C. 5041, Headquarters, Marine Corps; OPNAVINST 3710.7, NATOPS General Flight and Operating Instructions; and E.O. 9397 (SSN).

Purpose(s):

To provide a personal flight record for the individual aircrew member, to serve as a record of certain aviation information developed during active aviation tours, and to provide commanding officers with pertinent data to assist in assignment, utilization, and training of the air crewman.

Routine uses of records maintained in the system, including categories of users and the purposes of such uses:

In addition to those disclosures generally permitted under 5 U.S.C. 552(b) of the Privacy Act, these records of information contained therein may specifically be disclosed outside the DoD as a routine use pursuant to 5 U.S.C. 552(b) of the Privacy Act, these records or information contained therein may specifically be disclosed outside the DoD as a routine use pursuant to 5 U.S.C. 552(b)(3) as follows:

The DoD ‘Blanket Routine Uses’ that appears at the beginning of the Navy's compilation of systems and records notices apply to this system.

Policies and practices for storing, retrieving, accessing, retaining, and disposing of records in the system:

Storage:

Paper and automated records.

Retrievability:

Name and Social Security Number.

Safeguards:

Access is restricted to the individual and those who maintain training records, or those who are directly involved with the individual's training or evaluation. The file cabinets or bookshelves containing the log books are in command areas under normal military 24-hour security measures. Automated systems are password protected and accessible only by individuals having an official need to know.

Retention and disposal:

Upon detachment from squadron/command or from active duty service, the log book will be given to the individual. For a deceased, missing, or captured air crewman, the log book will be treated as personal effects.

System manager and address:

Commander Naval Air Forces (N32), NAS North Island, P.O. Box 357051, San Diego, CA 92135-7051.

Notification procedure:

Individuals seeking to determine whether information about themselves is contained in this system should address written inquiries to the Commander Naval Air Forces (N32), NAS North Island, P.O. Box 357051, San Diego, CA 92135-7051.

The request should contain the full name and Social Security Number of the individual, the squadron assigned and dates assigned, and be signed by the requester.

Record access procedure:

Individuals seeking access to information about themselves contained in this system should address written inquiries to the Commander Naval Air Forces (N32), NAS North Island, P.O. Box 357051, San Diego, CA 92135-7051.

The request should contain the full name and Social Security Number of the individual, the squadron assigned and dates assigned, and be signed by the requester.

Contesting record procedures:

The Navy's rules for accessing records, and for contesting contents and appealing initial agency determinations are published in the Secretary of the Navy Instruction 5211.5; 32 CFR part 701; or may be obtained from the system manager.

Record source categories:

Individual aeronautically designated Navy or Marine Corps officer or enlisted crewmember, academic tests supporting flight training, flight performance evaluations, flight check evaluations, aviation physiology training, and transcribed Individual Flight Activity Reporting System data.

Exemptions claimed for the system:

None.

[FR Doc. 04-11688 Filed 5-24-04; 8:45 am]

BILLING CODE 5001-06-M